DEPARTMENT OF COMMERCE

National Institute of Standards and Technology

National Conference on Weights and Measures 99th Annual Meeting

AGENCY: National Institute of Standards and Technology, Commerce.

ACTION: Notice.

SUMMARY: The 99th Annual Meeting of the National Conference on Weights and Measures (NCWM) will be held in Detroit, Michigan, from Sunday, July 13, 2014, to Thursday, July 17, 2014. This notice contains information about significant items on the NCWM Committee agendas, but does not include all agenda items. As a result, the items are not consecutively numbered.

DATES: The meeting will be held from Sunday, July 13, 2014, to Thursday, July 17, 2014. Meeting hours are from 8:00 a.m. to 5:00 p.m. (ET) daily.

ADDRESSES: This meeting will be held at the Westin Book Cadillac Detroit located at 1114 Washington Boulevard, Detroit, MI 48226

FOR FURTHER INFORMATION CONTACT: Ms. Carol Hockert, Chief, NIST, Office of Weights and Measures, 100 Bureau Drive, Stop 2600, Gaithersburg, MD 20899-2600. You may also contact Ms. Hockert at (301) 975-5507 or by email at carol.hockert@nist.gov. The meeting is open to the public, but a paid registration is required. Please see NCWM Publication 16 “Committee Reports for the 99th Annual Meeting” (www.ncwm.net) to view the meeting agendas, registration forms, and hotel information.

SUPPLEMENTARY INFORMATION: Publication of this notice on the NCWM's behalf is undertaken as a public service; NIST does not endorse, approve, or recommend any of the proposals or other information contained in this notice or in the publications of the NCWM.

The NCWM is an organization of weights and measures officials of the states, counties, and cities of the United States, federal agencies, and representatives from the private sector. These meetings bring together government officials and representatives of business, industry, trade associations, and consumer organizations on subjects related to the field of weights and measures technology, administration, and enforcement. NIST participates to encourage cooperation between federal agencies and the states in the development of legal metrology requirements. NIST also promotes uniformity among the states in laws, regulations, methods, and testing equipment that comprise the regulatory control of commercial weighing and measuring devices, packaged goods, and other trade and commerce issues.

The following are brief descriptions of some of the significant agenda items that will be considered along with other issues at the NCWM Annual Meeting. Comments will be taken on these and other issues during several public comment sessions. At this stage, the items are proposals. This meeting also includes work sessions in which the Committees may also accept comments and discuss the recommendations up for adoption at the 2014 Annual Meeting. The Committees may withdraw or carryover items that need additional development.

Some of the items listed below provide notice of projects under development by groups working to develop specifications, tolerances, and other requirements for devices used in the retail sales of engine fuels and the establishment of approximate gallon and liter equivalents to diesel fuel that would be used in marketing both compressed and liquefied natural gas. Also included is a notice about efforts to clarify a method of sale for pressurized containers that utilize bag-on-valve technology. These notices are intended to make interested parties aware of these projects and additional information on each item may be given at the Annual Meeting. The notices are also presented to invite the participation of manufacturers, experts, consumers, users, and others who may be interested in these efforts.

The Specifications and Tolerances Committee (S&T Committee) will consider proposed amendments to NIST Handbook 44, “Specifications, Tolerances, and other Technical Requirements for Weighing and Measuring Devices” (HB44). Those items address weighing and measuring devices used in commercial applications, that is, devices that are used to buy from or sell to the public or used for determining the quantity of product sold among businesses. Issues on the agenda of the NCWM Laws and Regulations Committee (L&R Committee) relate to a proposal to amend the “Uniform Method of Sale of Commodities Regulation” and other uniform regulations in NIST Handbook 130 “Uniform Laws and Regulations in the area of Legal Metrology and Engine Fuel Quality” (HB130).

NCWM Specifications and Tolerances Committee

The following items are proposals to amend NIST Handbook 44:

General Code

Item 310-2 G.S.5.6. Recorded Representations

A variety of commercial weighing and measuring devices are required to provide paper receipts for consumers at the end of a transaction. These receipts provide important information for consumers (e.g., seller identity, date, product identity, and amount delivered, along with the unit price and total price of the transaction). Sometimes receipts include details of transaction that are often not readily apparent to consumers at the time of the transaction (e.g., such as when a point of sale system in a grocery store deducts for the tare weight on a package of apples). These documents help consumers understand a transaction and reconcile the transaction with billing invoices or credit card bills in the future. Detailed receipts are especially important in transactions where the customer is often not present, such as when a delivery of heating fuel is made when the consumer is not at home. Receipts describing transaction details help prevent fraud and provide valuable protections for buyers and sellers alike. This item is a proposal to revise the General Code requirement to allow sellers to offer consumers the choice of receiving receipts via digital communications such as email or online account access.

Scales

Item 320-2 User Requirement—UR.2.4. Foundations, Supports, and Clearance

The S&T Committee is recommending an amendment to this User Requirement to allow an in-motion railroad scale to use continuous rails extending throughout the approach and weighing areas. Currently use of continuous rails is not permitted under paragraph HB44-UR.2.4. that reads “clearance shall be provided around all live parts to the extent that no contacts may result when the load-receiving element is empty, nor throughout the weighing range of the scale.” This proposal was made in response to a request from a scale manufacturer that offers a scale that determines the weight of railcars moving over continuous rails. This railroad scale design is used in other countries where it has received approval from legal metrology officials under regulations that differ from the requirements in HB44.

Mass Flow Meters

Item 337-2 Appendix D—Definitions: Diesel Liter Equivalent (DLE) and Diesel Gallon

Equivalent (DGE) for Compressed Natural Gas and Liquefied Natural Gas; Definition of Gasoline Gallon Equivalent (GGE) and Gasoline Liter Equivalent (GLE) for Compressed Natural Gas; S.1.2. Compressed Natural Gas and Liquefied Natural Gas Dispensers; S.1.3.1.1. Compressed Natural Gas Used as an Engine Fuel; S.1.3.1.2. Liquefied Natural Gas Used as an Engine Fuel; S.5.2. Marking of Diesel and Gasoline Volume Equivalent Conversion Factor; Compressed Natural Gas, S.5.3. Marking of Diesel Volume Equivalent Conversion Factor; Liquefied Natural Gas, UR.3.1.1. Marking of Equivalent Conversion Factor for Compressed Natural Gas, UR.3.1.2. Marking of Equivalent Conversion Factor for Liquefied Natural Gas, and UR.3.8. Return of Product to Storage, Retail Compressed Natural Gas and Liquefied Natural Gas.

In 1994, in response to a request from a coalition of natural gas providers and subsequent fuel study, the NCWM adopted conversion factors for use in converting a delivery of Compressed Natural Gas (CNG) vehicle fuel to an equivalent liter or gallon of gasoline. At that time those equivalents were based on averaged regional CNG energy values and the approximate lower heating value for a gallon of gasoline (indolene). The equivalent values were recommended by the CNG industry to promote greater use of CNG as a vehicle fuel. The “Gasoline Liter/Gallon Equivalents” were developed as a means to facilitate value comparisons between gasoline and CNG and to permit fuel economy comparisons. In a number of instances since the adoption of these “equivalents,” some state weights and measures officials and several CNG providers have expressed the concern that the energy equivalent values adopted in 1994 do not provide an accurate estimate of the energy content of natural gas. Another concern with the 1994 “equivalents” is that the specified values have not been reevaluated to ensure that they correlate with the energy content of today's gasoline and gasoline-oxygenated blends or other alternative fuels such as E85. Consequently, many weights and measures officials are reluctant to consider adding more energy “equivalency” values for additional fuels unless some mechanism is established to ensure that all of these energy equivalency values are routinely updated to reflect the current energy content (i.e., Joules/BTUs) of gasoline and diesel fuels and various blends of these products with alternative fuels. The need for such a mechanism is important considering the many blends of fuels that are currently in the marketplace and others that are anticipated to enter the fuel arena in the future (e.g., 15% or higher ethanol blends with gasoline and biodiesel blends greater than 5%). The proposals would establish new equivalents identified as the “diesel liter equivalent (DLE)” and a “diesel gallon equivalent (DGE)” for both CNG and Liquefied Natural Gas (LNG) that correspond to specific mass values for these units when they are used in retail vehicle refueling applications. The proponents of these proposals indicate that the purpose of these units is to educate consumers to the fact that a DLE or DGE of “compressed” or “liquefied” natural gas would contain approximately the same amount of energy as a liter or gallon of diesel fuel. Many sellers of these products believe that adoption and use of the DLE or DGE in retail fuel sales would make it easier for consumers to make price, value, and fuel economy comparisons between an energy based “equivalent” liter or gallon of compressed natural gas and diesel fuel. See also Items 337-3, and 337-5 on the Specifications and Tolerances Committee Agenda and Items 232-3 and Item 237-2 on the Laws and Regulations Committee Agenda regarding proposed methods of sale for the DLE and DGE.

The Clean Vehicle Education Foundation (CVEF) submitted proposals in 2012 and 2013 for rule changes to allow compressed natural gas (CNG) and liquefied natural gas (LNG) to be sold as a retail engine fuel in liter or gallon equivalent units. The NCWM established the Natural Gas Steering Committee (NGSC) in July 2013 to address concerns over the proliferation of equivalent units and resolve other technical issues involved with the proposed changes to HB44 and HB130.

At the January 2014 NCWM Interim Meeting, the Chairman of the NGSC advised the S&T and L&R Committees that the NGSC planned to consolidate the proposals to modify HB44 and HB130 and that the NGSC supported recognition of the new diesel energy equivalent units for both compressed and liquefied natural gas. The NGSC completed its work in March 2014 and its recommendations are included in NCWM Publication 16 as voting items for adoption at the July 2014 NCWM Annual Meeting.

NCWM Laws and Regulations Committee (L & R Committee)

The following item is a proposal to amend NIST Handbook 130:

NIST Handbook 130—Uniform Regulation for the Method of Sale of Commodities

Item 231-2 Section 10.3. Aerosols and Similar Pressurized Containers

This item includes a proposal to clarify that a current method of sale applies to aerosol containers, and containers that utilize Bag-on-Valve (BOV) technology and other self-pressurized packages that have their net content declarations presented in terms of fluid volume. Currently, under the Uniform Packaging and Labeling Regulation (UPLR) adopted by many states and under regulations issued by both the Food and Drug Administration and the Federal Trade Commission, products sold in aerosol or similar pressurized containers must be offered for sale by net weight. BOV packaging, which has been in the marketplace for many years, is used to sell the same products sold in aerosol containers (e.g., sunscreen, wound wash, shaving cream, and car-care products). Because BOV containers (with their net contents declared in fluid volume) are used to sell the same type of products dispensed from aerosol containers (with their net contents declared by weight), consumers are unable to make value comparisons between similar products. The L&R Committee proposal will allow the companies which currently label containers by volume in conflict with the existing method of sale at least three years (the deadline for compliance is January 1, 2018) to bring their labeling into compliance.

Dated: June 26, 2014.
Willie E. May,
Associate Director for Laboratory Programs.

[FR Doc. 2014-15798 Filed 7-7-14; 8:45 am]

BILLING CODE 3510-13-P